INTERNATIONAL TRADE COMMISSION

[Investigation No. 337-TA-739 (Enforcement Proceeding)]

Certain Ground Fault Circuit Interrupters and Products Containing Same

AGENCY: U.S. International Trade Commission.

ACTION: Notice.

SUMMARY: Notice is hereby given that the U.S. International Trade Commission seeks written submissions from the parties and from the public on remedy, bonding, and the public interest in the above-referenced enforcement proceeding.

FOR FURTHER INFORMATION CONTACT: Clark S. Cheney, Office of the General Counsel, U.S. International Trade Commission, 500 E Street SW., Washington, DC 20436, telephone (202) 205-2661. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The Commission instituted the investigation underlying this enforcement proceeding on October 8, 2010, based on a complaint filed by Leviton Manufacturing Co., Inc., of Melville, New York (“Leviton”). 75 FR 62420 (Oct. 8, 2010). The complaint alleged violations of section 337 of the Tariff Act of 1930, as amended (19 U.S.C. 1337), in the importation into the United States, the sale for importation, and the sale within the United States after importation of certain ground fault circuit interrupters and products containing the same by reason of infringement of, inter alia, U.S. Patent No. 7,737,809 (“the '809 patent”).

On April 27, 2012, the Commission issued a general exclusion order barring entry of ground fault circuit interrupters that infringe certain claims of the '809 patent. The Commission also entered cease and desist orders against several respondents.

On November 1, 2012, the Commission instituted a proceeding for the enforcement of the Commission's remedial orders based on an enforcement complaint filed by Leviton. 77 FR 66080 (Nov. 1, 2012). The enforcement complaint alleged that respondents American Electric Depot Inc. (“AED”); Shanghai ELE Manufacturing Corp. (“Shanghai ELE”), and Shanghai Jia AO Electrical Co., Ltd. (“Shanghai Jia AO”) violated the general exclusion order. The enforcement complaint also alleged that other respondents violated cease and desist orders. On February 14, 2013, the presiding administrative law judge (“ALJ”) (Chief Judge Bullock) issued an initial determination finding AED, Shanghai ELE, and Shanghai Jia AO in default. All other respondents settled. On April 10, 2013, the Commission determined not to review the initial determination with respect to the defaulting respondents.

On April 16, 2013, complainant Leviton filed a motion requesting that the Commission issue (1) a cease and desist order against AED; and (2) seizure and forfeiture orders against ground fault circuit interrupters imported or sold by AED, Shanghai ELE, and Shanghai Jia AO. On April 26, 2013, the Commission investigative attorney (“IA”) filed a response supporting Leviton's motion. No respondent filed a response to Leviton's motion.

On May 22, 2013, the ALJ issued a recommended determination (“RD”) on remedy. The ALJ drew an inference from AED's refusal to participate in the enforcement proceeding that AED has commercially significant inventories of infringing articles. Accordingly, the ALJ recommended that the Commission issue a cease and desist order prohibiting AED from selling or distributing infringing articles in the United States. The ALJ declined to recommend seizure and forfeiture orders because he found Leviton failed to show evidence that infringing articles were previously denied entry, as required under Commission Rule 210.75(b)(6)(ii).

In connection with the final disposition of this enforcement proceeding, the Commission may issue or modify a cease and desist order and/or exclusion order in any manner necessary to prevent the unfair practices that were originally the basis for issuing the remedial orders in the original investigation. The Commission may also issue a seizure and forfeiture order upon satisfaction of the conditions in 19 CFR 210.75(b)(6).

Prior to effecting any remedy in this enforcement proceeding, the Commission must consider the effects of a potential remedy upon the public interest. The factors the Commission must consider include the effect that the remedy would have on (1) the public health and welfare; (2) competitive conditions in the U.S. economy; (3) U.S. production of articles that are like or directly competitive with those that are subject to investigation; and (4) U.S. consumers.

Accordingly, the Commission is interested in receiving written submissions that address the public interest factors above and the form of remedy and bonding, if any, that should be ordered.

Written Submissions: Parties to the enforcement proceeding, interested government agencies, and any other interested members of the public are encouraged to file written submissions on the issues of remedy, bonding, and the public interest. Such submissions should address the ALJ's recommendation on remedy set forth in the RD. Complainant Leviton and the IA are also requested to submit proposed remedial orders for the Commission's consideration. Initial written submissions and proposed remedial orders must be filed no later than close of business on August 16, 2013. Reply submissions must be filed no later than the close of business on August 30, 2013. No further submissions on these issues will be permitted unless otherwise ordered by the Commission.

Persons filing written submissions must file the original document electronically on or before the deadlines stated above and submit 8 true paper copies to the Office of the Secretary by noon the next day pursuant to section 210.4(f) of the Commission's Rules of Practice and Procedure (19 CFR 210.4(f)). Submissions should refer to the investigation number (“Inv. No. 337-TA-739 (Enforcement Proceeding)”) in a prominent place on the cover page and/or the first page. (See Handbook for Electronic Filing Procedures, http://www.usitc.gov/secretary/fed_reg_notices/rules/handbook_on_electronic_filing.pdf). Persons with questions regarding filing should contact the Secretary (202-205-2000).

Any person desiring to submit a document to the Commission in confidence must request confidential treatment. All such requests should be directed to the Secretary to the Commission and must include a full statement of the reasons why the Commission should grant such treatment. See 19 CFR 201.6. Documents for which confidential treatment by the Commission is properly sought will be treated accordingly. A redacted non-confidential version of the document must also be filed simultaneously with the any confidential filing. All non-confidential written submissions will be available for public inspection at the Office of the Secretary and on EDIS.

The authority for the Commission's determination is contained in section 337 of the Tariff Act of 1930, as amended (19 U.S.C. 1337), and in Part 210 of the Commission's Rules of Practice and Procedure (19 CFR part 210).

By order of the Commission.
Issued: July 31, 2013.
Lisa R. Barton,
Acting Secretary to the Commission.

[FR Doc. 2013-18890 Filed 8-5-13; 8:45 am]

BILLING CODE 7020-02-P